THE NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of Humanities Panels will be held at the Old Post Office, 1100 Pennsylvania Avenue, NW., Washington, DC 20506.

FOR FURTHER INFORMATION CONTACT: Michael P. McDonald, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c)(4), and (6) of section 552b of Title 5, United States Code.

1. Date: November 2, 2009

Time: 9 a.m. to 5 p.m.

Room: 421

Program: This meeting will review applications for Digital Media Projects in America's Media Makers Grants Program, submitted to the Division of Public Programs at the August 26, 2009 deadline.

2. Date: November 3, 2009

Time: 9 a.m. to 5 p.m.

Room: 421

Program: This meeting will review applications for Interpreting America's Historic Places Grants Program, submitted to the Division of Public Programs at the August 26, 2009 deadline.

3. Date: November 4, 2009

Time: 9 a.m. to 5 p.m.

Room: 421

Program: This meeting will review applications for Interpreting America's Historic Places Grants Program, submitted to the Division of Public Programs at the August 26, 2009 deadline.

4. Date: November 5, 2009

Time: 9 a.m. to 5 p.m.

Room: 421

Program: This meeting will review applications for Radio Projects in America's Media Makers Grants Program, submitted to the Division of Public Programs at the August 26, 2009 deadline.

5. Date: November 6, 2009

Time: 9 a.m. to 5 p.m.

Room: 421

Program: This meeting will review applications for Urban and Labor History in America's Historical and Cultural Organizations Grants Program, submitted to the Division of Public Programs at the August 26, 2009 deadline.

6. Date: November 9, 2009

Time: 9 a.m. to 5 p.m.

Room: 421

Program: This meeting will review applications for Local and Regional History in America's Historical and Cultural Organizations Grants Program, submitted to the Division of Public Programs at the August 26, 2009 deadline.

7. Date: November 9, 2009

Time: 8:30 a.m. to 5 p.m.

Room: 315

Program: This meeting will review applications for Pilot Course Grants, submitted to the Division of Education Programs at the September 15, 2009 deadline.

8. Date: November 10, 2009

Time: 8:30 a.m. to 5 p.m.

Room: 315

Program: This meeting will review applications for Pilot Course Grants, submitted to the Division of Education Programs at the September 15, 2009 deadline.

9. Date: November 10, 2009

Time: 8:30 a.m. to 5 p.m.

Room: 415

Program: This meeting will review applications for History and Culture IV in Preservation and Access Humanities Collection and Reference Resources, submitted to the Division of Preservation and Access at the July 15, 2009 deadline.

10. Date: November 10, 2009

Time: 9 a.m. to 5 p.m.

Room: 421

Program: This meeting will review applications for American Studies in America's Media Makers Grants Program, submitted to the Division of Public Programs at the August 26, 2009 deadline.

11. Date: November 16, 2009

Time: 9 a.m. to 5 p.m.

Room: 421

Program: This meeting will review applications for Art History in America's Historical and Cultural Organizations Grants Program, submitted to the Division of Public Programs at the August 26, 2009 deadline.

12. Date: November 16, 2009

Time: 8:30 a.m. to 5 p.m.

Room: 315

Program: This meeting will review applications for Pilot Course Grants, submitted to the Division of Education Programs at the September 15, 2009 deadline.

13. Date: November 17, 2009

Time: 8:30 a.m. to 5 p.m.

Room: 315

Program: This meeting will review applications for Pilot Course Grants, submitted to the Division of Education Programs at the September 15, 2009 deadline.

14. Date: November 17, 2009

Time: 9 a.m. to 5 p.m.

Room: 421

Program: This meeting will review applications for U.S. History in America's Media Makers Grants Program, submitted to the Division of Public Programs at the August 26, 2009 deadline.

15. Date: November 17, 2009

Time: 8:30 a.m. to 5 p.m.

Room: 415

Program: This meeting will review applications for World Studies II in Preservation and Access Humanities Collection and Reference Resources, submitted to the Division of Preservation and Access at the July 15, 2009 deadline.

16. Date: November 18, 2009

Time: 8:30 a.m. to 5 p.m.

Room: 315

Program: This meeting will review applications for Picturing America School Collaboration Projects, submitted to the Division of Education Programs at the October 7, 2009 deadline.

17. Date: November 18, 2009

Time: 9 a.m. to 5 p.m.

Room: 421

Program: This meeting will review applications for U.S. History in America's Media Makers Grants Program, submitted to the Division of Public Programs at the August 26, 2009 deadline.

18. Date: November 19, 2009

Time: 9 a.m. to 5 p.m.

Room: 421

Program: This meeting will review applications for Projects for Family and Youth in America's Historical and Cultural Organizations Grants Program, submitted to the Division of Public Programs at the August 26, 2009 deadline.

19. Date: November 19, 2009

Time: 8:30 a.m. to 5 p.m.

Room: 315

Program: This meeting will review applications for Picturing America School Collaboration Projects, submitted to the Division of Education Programs at the October 7, 2009 deadline.

20. Date: November 19, 2009

Time: 8:30 a.m. to 5 p.m.

Room: 415

Program: This meeting will review applications for Music and Performing Arts in Preservation and Access Humanities Collection and Reference Resources, submitted to the Division of Preservation and Access at the July 15, 2009 deadline.

Michael P. McDonald,
Advisory Committee Management Officer.

[FR Doc. E9-24428 Filed 10-8-09; 8:45 am]

BILLING CODE 7536-01-P